DEPARTMENT OF JUSTICE

Notice of Proposed Settlement Under the Comprehensive Environmental Response, Compensation, and Liability Act

Notice is hereby given that the United States, on behalf of the Department of the Interior (”DOI”), through the United States Fish and Wildlife Service, and the State of Indiana, on behalf of the Indiana Department of Natural Resources and the Indiana Department of Environmental Management, (collectively “Trustees”), are providing an opportunity for public comment on a proposed Settlement Agreement among the United States, Indiana, and Northern Indiana Public Service Company LLC (“NIPSCO”).

This Settlement Agreement relates to potential natural resource damages at the Stateline Reach Site in Lake County, Indiana, pursuant to the Comprehensive Environmental Response, Compensation, and Liability Act (“CERCLA”). The Settlement Agreement resolves natural resource damages claims on behalf of the United States and the State of Indiana based on remediation and restoration work performed by NIPSCO and its commitment to continue performing needed operation and maintenance at the site.

The publication of this notice opens a period for public comment on the Settlement Agreement. Comments should be addressed to Daniel W. Sparks, and should refer to NIPSCO Settlement Agreement. All comments must be submitted no later than thirty (30) days after the publication date of this notice. Comments may be submitted either by email or by mail:

To submit comments: | Send them to:
By email | daniel_sparks@fws.gov.
By mail | Daniel W. Sparks, Senior Fish and Wildlife Biologist, US Fish and Wildlife Service, 620 S. Walker St., Bloomington, IN 47403.

During the public comment period, the Settlement Agreement may be examined and downloaded at this Justice Department website: https://www.justice.gov/enrd/consent-decrees. If you require assistance accessing the Settlement Agreement, you may request assistance by email or by mail to the addresses provided above for submitting comments.

Eric Albert,
Assistant Section Chief, Environmental Enforcement Section, Environment and Natural Resources Division.

[FR Doc. 2025-20340 Filed 11-19-25; 8:45 am]

BILLING CODE 4410-15-P